DEPARTMENT OF COMMERCE

National Oceanic and Atmospheric Administration

[Docket No. 000411102-1045-03; I.D. 122800E]

RIN 0648-ZA85

Financial Assistance for Community-based Habitat Restoration Projects

AGENCY: National Marine Fisheries Service (NOAA Fisheries), National Oceanic and Atmospheric Administration (NOAA), Commerce.

ACTION: Notice of availability of funds.

SUMMARY: The purpose of this document is to invite the public to submit proposals for available funding to implement grass-roots habitat restoration projects that will benefit living marine resources, including anadromous fish, under the NOAA Community-Based Restoration Program (CRP or Program). This document describes the conditions under which applications (project proposals) will be accepted under the CRP, and describes criteria under which applications will be evaluated for funding consideration. Projects funded through the CRP will be expected to have strong on-the-ground habitat restoration components that provide educational and social benefits for people and their communities in addition to long-term ecological habitat improvements for NOAA trust resources. Proposals selected for funding through this solicitation will be implemented through a project grant, cooperative agreement, or interagency transfer.

DATES: Applications for funding under the CRP will be accepted upon publication of this document in the Federal Register and must be received by or postmarked by May 1, 2001. Applications postmarked after that time will not be considered for funding. Applications submitted via the U.S. Postal Service must have an official postmark; private metered postmarks are not acceptable. Applications delivered by a delivery service after the postmark date will be accepted for review if the applicant can document that the application was provided to the delivery service on or prior to the specified postmark cut-off date. No facsimile or electronic mail applications will be accepted.

ADDRESSES: Send applications to James P. Burgess, Director, NOAA Restoration Center, National Marine Fisheries Service, 1315 East West Highway (F/HC3), Silver Spring, MD 20910-3282; ATTN: CRP Project Applications.

See SUPPLEMENTARY INFORMATION section under Electronic Access for additional information on the Program and for application form information.

FOR FURTHER INFORMATION CONTACT: Christopher D. Doley or Robin J. Bruckner, (301) 713-0174, or by e-mail at Chris.Doley@noaa.gov or Robin.Bruckner@noaa.gov.

SUPPLEMENTARY INFORMATION:

I. Program Description

The CRP, a financial and technical Federal assistance program, promotes strong partnerships at the national, regional and local level to fund grass-roots, community-based activities that restore living marine resources and their habitats and promote stewardship and a conservation ethic for NOAA trust resources. NOAA trust resources are living marine resources that include commercial and recreational fishery resources (marine fish and shellfish and their habitats); anadromous species (fish, such as salmon and striped bass, that spawn in freshwater and then migrate to the sea); endangered and threatened marine species and their habitats; marine mammals, turtles, and their habitats; marshes, mangroves, seagrass beds, coral reefs, and other coastal habitats; and resources associated with National Marine Sanctuaries and National Estuarine Research Reserves.

The CRP’s objective is to bring together citizen groups, public and nonprofit organizations, watershed groups, industry, corporations and businesses, youth conservation corps, students, landowners, and local government, state, and Federal agencies to cooperatively implement habitat restoration projects. Partnerships developed at national, regional and local levels contribute funding, land, technical assistance, workforce support or other in-kind services to promote citizen participation in the improvement of locally-important living marine resources, as well as develop local stewardship and monitoring activities to sustain and evaluate the success of the restoration.

The CRP recognizes the significant role that communities can play in habitat restoration, and acknowledges that habitat restoration is often best implemented through technical and monetary support provided at a community level. Community-based restoration projects supported by the CRP are successful because they have significant local backing, depend upon citizens hands-on involvement, and typically involve NOAA technical assistance or oversight. The role of NOAA in the CRP is to help identify potential restoration projects, strengthen the development and implementation of sound restoration projects within communities, and develop long-term, ongoing national and regional partnerships to support community-based restoration efforts of living marine resource habitats across a wide geographic area. For more information on the CRP, see Electronic Access.

II. Authority

The Secretary of Commerce is authorized under the Fish and Wildlife Coordination Act, 16 U.S.C. 661-666, to provide grants or cooperative agreements for fisheries habitat restoration.

III. Catalogue of Federal Domestic Assistance

This Program is described in the “Catalogue of Federal Domestic Assistance,” under program number 11.463, Habitat Conservation.

IV. Eligible Applicants

Eligible applicants are institutions of higher education, hospitals, other non-profits, commercial organizations, organizations under the jurisdiction of foreign governments, international organizations, state, local and Indian tribal governments. Due to a significant increase in funding available to the CRP in FY 2001, applications from Federal agencies will be considered. Although Federal agencies are eligible to apply under this solicitation, they are strongly encouraged to work with states, non-governmental organizations, national service clubs or youth corps organizations and others that are eligible to apply, rather than seeking project funding directly from the CRP. Proposals selected for funding from non-Federal applicants will be funded through a project grant or cooperative agreement under the terms of this document. Proposals selected for funding from a non-NOAA Federal agency will be funded through an interagency transfer. Before non-NOAA Federal applicants may be funded, they must demonstrate that they have legal authority to receive funds for the purpose of this program in excess of their appropriation. Because this announcement is not proposing to procure goods or services from applicants, the Economy Act (31 U.S.C. 1535) is not an appropriate legal basis.

The Department of Commerce/National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation’s capacity to provide high-quality education, and to increase opportunities for MSIs to participate in, and benefit from, Federal financial assistance programs. DOC/NOAA encourages proposals for habitat restoration projects involving MSIs according to the criteria in this document.

V. Eligible Restoration Activities

NOAA is interested in funding projects that will result in on-the-ground restoration of habitat to benefit living marine resources, including anadromous fish species. Restoration is defined here as activities that contribute to the return of degraded or altered marine, estuarine, coastal and freshwater anadromous fish habitats to a close approximation of their condition prior to disturbance. Restoration may include, but is not limited to, improvement of coastal wetland tidal exchange or reestablishment of historic hydrology; dam or berm removal; improvement or reestablishment of fish passageway; natural or artificial reef/substrate/habitat creation; establishment of riparian buffer zones and improvement of freshwater habitat features that support anadromous fishes; planting of native coastal wetland and submerged aquatic vegetation; and enhancement of feeding, spawning and growth areas essential to marine or anadromous fish. NOAA recognizes that accomplishing restoration is a multi-faceted effort involving project design, engineering services, permitting, construction, oversight and monitoring.

In general, proposed projects should clearly demonstrate anticipated benefits to habitats, such as salt marshes, seagrass beds, coral reefs, mangrove forests, and riparian habitat near rivers, streams and creeks used or formerly used by anadromous fish. Priorities for habitat restoration activities include: areas identified by NOAA Fisheries as essential fish habitat (EFH) and areas within EFH identified as Habitat Areas of Particular Concern; areas identified as critical habitat for federally or state listed marine and anadromous species; areas identified as important habitat for marine mammals and turtles; watersheds or such other areas under conservation management as special management areas under state coastal management programs; and other important commercial or recreational marine fish habitat, including degraded areas that historically were important habitat for living marine resources.

To protect the Federal investment, projects on private lands need to provide assurance that the project will be maintained for its intended purpose for the life of the project. Projects on permanently protected lands may be given priority consideration.

Projects must involve significant community support through an educational and/or volunteer component tied to the restoration activities. Implementation of on-the-ground habitat restoration projects must involve community outreach and monitoring to assess project success, and may involve limited pre-implementation activities, such as engineering and design and short-term baseline studies. Proposals emphasizing a singular restoration component, such as only outreach or program coordination are discouraged, as are applications that propose to expand an organization’s day-to-day activities, or that primarily seek support for administration, salaries, overhead and travel. The CRP anticipates the availability of funds for high quality, quantitative monitoring projects to advance the science and technology of coastal and marine habitat restoration. Proposals emphasizing science-based monitoring of existing or simultaneously proposed Community-Based Restoration Program projects are encouraged.

Although NOAA recognizes that water quality issues may impact habitat restoration efforts, this initiative is intended to fund physical habitat restoration projects rather than direct water quality improvement measures, such as wastewater treatment plant upgrades or combined sewer outfall improvements. Similarly, the following restoration projects will not be eligible for funding: (1) Activities that constitute legally required mitigation for the adverse effects of an activity regulated or otherwise governed by state or Federal law; (2) activities that constitute restoration for natural resource damages under Federal or state law, and (3) activities that are required by a separate consent decree, court order, statute or regulation. Funds from this program may be sought to enhance restoration activities beyond the scope legally required by these activities.

VI. Funding Availability

This solicitation announces that funding of up to $3,000,000 will be available for community-based habitat restoration projects in FY 2001. The NOAA Restoration Center anticipates that typical project awards will range from $25,000 to $150,000; NOAA will not accept proposals for under $10,000 or proposals for over $200,000 under this solicitation. There is no guarantee that sufficient funds will be available to make awards for all proposals. The number of awards to be made as a result of this solicitation will depend on the number of eligible applications received, the amount of funds requested for initiating restoration projects by the applicants, the merit and ranking of the proposals, and the amount of funds made available to the CRP by Congress. The exact amount of funds that may be awarded will be determined in pre-award negotiations between the applicant and NOAA representatives. Publication of this document does not obligate NOAA to award any specific project or obligate all or any parts of any available funds.

VII. Matching Requirements

The overall focus of the CRP is to provide seed money to individual projects that leverage funds and other contributions from a broad public and private sector to implement locally important habitat restoration to benefit living marine resources. To this end, applicants are encouraged to demonstrate a minimum 1:1 non-Federal match for CRP funds requested to complete the proposed project. NOAA strongly encourages applicants to leverage as much investment as possible; applicants with less than 1:1 match will not be disqualified. The degree to which cost-sharing exceeds the minimum level, and the nature (cash versus in-kind) of the contribution may be taken into account in the final selection of projects to be funded (see Evaluation Criteria section).

For non-Federal applicants, the match can come from a variety of public and private sources and can include in-kind goods and services. Federal funds may not be considered matching funds. Applicants are permitted to combine contributions from additional non-Federal partners in order to meet the 1:1 match expected. Applicants whose proposals are selected for funding will be bound by the percentage of cost sharing reflected in the award document signed by the NOAA Grants Officer.

VIII. Award Period

Generally, the Program will make awards only to those projects where requested funding will be used to complete proposed restoration activities, with the exception of post-construction monitoring, within a period of 18 months from the time awards are distributed. If an application is selected for funding, NMFS has no obligation to provide any additional prospective funding in connection with that award in subsequent years. Any subsequent proposal to continue work on an existing project must be submitted to the competitive process for consideration and will not receive preferential treatment. Renewal of an award to increase funding or to extend the period of performance is at the total discretion of the Restoration Center Director.

IX. Electronic Access

Information on the Program, including examples of community-based habitat restoration projects that have been funded to date, can be found on the world wide web at http://www.nmfs.noaa.gov/habitat/restoration. The standard NOAA application forms and instructions for applicants are accessible through this web site, or they can be obtained from the NOAA Restoration Center (see ADDRESSES).

X. Application Process

To submit a proposal, a NOAA grants application must be filed, and must be complete and in accordance with instructions in the standard NOAA Grants Application Package and guidelines in this document. Each application must include all specified sections as follows: cover sheet-an applicant must use Office of Management and Budget (OMB) Standard Form 424 as the cover sheet for each project; budget detail (SF 424A and budget justification narrative); grant assurances SF424B and CD-511, and SF-LLL if applicable; and narrative project description (statement of work). Budgets must include a detailed breakdown by category of cost estimates as they relate to specific aspects of the project, with appropriate justification for both the Federal and non-Federal shares.

In general, applications should clearly demonstrate the broad-based benefits expected to specific habitats, and how these benefits will be achieved through the proposed restoration activities. The narrative project description should be no more than 7 double-spaced pages long, in 12 point font, and should give a clear presentation of the proposed work. It should identify the problems the project will address and describe short- and long-term objectives and goals, the methods for carrying out and monitoring the project, and the project’s relevance to enhancing habitat to benefit living marine resources. The project narrative should describe the organizational structure of the applicant group, detail its qualifications, and identify proposed project staff; participants (project partners) other than the applicant, and their contributions, should be identified. The need for assistance should be demonstrated, and the narrative should provide assurance that all necessary environmental permits and consultations will be secured prior to the use of Federal funds for construction. Applicants should not assume prior knowledge on the part of NOAA as to the relative merits of the project described in the application.

Applications should not be bound in any manner and should be printed on one side only. All incomplete applications will be returned to the applicant. Three copies (one signed original and two signed copies) of each application are required and must be submitted to the NOAA Restoration Center (see ADDRESSES). Applicants may opt to submit additional copies (seven are needed for reviewing purposes) if it does not cause a financial hardship. Applications for multiple projects submitted by the same applicant must be submitted in separate envelopes.

XI. Indirect Costs

The budget may include an amount for indirect costs if the applicant has an established indirect cost rate with the Federal government. The total dollar amount of indirect costs proposed in an application under this program must not exceed the indirect cost rate negotiated and approved by a cognizant Federal agency prior to the proposed effective date of the award. However, the Federal share of the indirect costs may not exceed 25 percent of the proposed request for Federal support. Applicants with indirect cost rates above 25 percent may use the amount above the 25-percent level as part of the non-Federal share. A copy of the approved, currently negotiated Indirect Cost Agreement with the Federal Government must be included in the application. If the applicant does not have a current negotiated rate and plans to seek reimbursement for indirect costs, documentation necessary to establish a rate must be submitted within 90 days of receiving an award.

XII. Project Selection Process

Applications will be screened to determine if they are complete and in accordance with instructions detailed in the standard NOAA Grants Application Package. Eligible restoration proposals will undergo a technical review, ranking, and selection process. As appropriate during this process, the NOAA Restoration Center will solicit individual technical evaluations of each project proposed and may consult with other NOAA offices, the NOAA Grants Management Division, the U.S. Department of Commerce, the Regional Fishery Management Councils, other Federal and state agencies, such as state coastal management agencies and state fish and wildlife agencies, and private and public sector restoration experts who have knowledge of a specific applicant, program or its subject matter. Proposals also will be reviewed by NOAA field and headquarters staff to determine how well applications meet the stated aims of the CRP, and how well the proposal meets the goals of the NOAA RC.

Applications for habitat restoration projects will be evaluated by individual technical reviewers according to the criteria and weights described in this solicitation. The proposals will be rated, and reviewer comments and composite project ranks will be presented to the Director of the NOAA Restoration Center. The Director, in consultation with Program staff, will consider the evaluations and may take into account the following: (a) Diversity of geographic location and habitat types to be restored; (b) diversity of applicants; (c) degree of duplication of proposed activities with other projects that are currently in effect or approved for funding by NOAA and other Federal agencies; (d) factors that may not be known by technical reviewers that would affect achievement of the CRP’s objectives as described in this announcement and the Program Guidelines (65 FR 16890, March 30, 2000); and (e) the availability of funds. Hence, awards may not necessarily be made to the highest scored proposals. The Director, in consultation with Program staff, will select the proposals to be funded and determine the amount of funds available for each approved proposal.

Applicants may be asked to modify objectives, work plans, or budgets prior to final approval of an award. The exact amount of funds to be awarded, the final scope of activities, the project duration, and specific NOAA cooperative involvement with the activities of each project will be determined in pre-award negotiations among the applicant, the NOAA Grants Office, and the NOAA Program staff. Projects should not be initiated in expectation of Federal funding until a notice of award document is received from the NOAA Grants Office.

Successful applicants generally will be selected approximately 45 days after the close of this solicitation. The earliest date for receipt of awards will be approximately 90 days after the close of this solicitation, when all NOAA/applicant negotiations of cooperative activities have been completed. Applicants should consider this selection and processing time in developing requested start dates for proposed restoration activities.

XIII. Evaluation Criteria

Reviewers will assign scores to proposals ranging from 0 to 60 points based on the following four evaluation criteria and respective weights. Applicants that score less than 6 points on either of the first two criteria will not receive further funding consideration.

(1) Potential of the Project to Benefit Living Marine Resources (15 points)

Proposals will be evaluated on the extent of proposed habitat restoration activities and the type(s) of habitat(s) that will be restored. In particular, NOAA will evaluate proposals based on the amount and type of habitat proposed for restoration and the potential of the applicant to restore, protect, conserve, and enhance habitats and ecosystems vital to self-sustaining populations of living marine resources under NOAA Fisheries stewardship; whether the habitat(s) to be restored will benefit commercial, recreational, threatened or endangered species; whether the proposal addresses a priority habitat, restoration need, special consideration, or is part of a watershed or community stewardship plan; whether the effects of restoration are expected to persist; and whether the proposed project will compliment or encourage other local restoration activities. Proposals for science-based monitoring of existing or simultaneously proposed Community-Based Restoration Program projects will be evaluated on the extent to which the potential results advance restoration methods, techniques and project implementation.

(2) Technical Merit and Adequacy of Project Implementation Plan (15 points)

Proposals will be evaluated on the technical feasibility of the project from both biological and engineering perspectives, and on the qualifications and past experience of the project leaders and/or partners in designing, implementing and effectively managing and overseeing projects. Communities and/or organizations developing their first locally-driven restoration project may not be able to document past experience and, therefore, will be evaluated on the basis of their potential to effectively manage and oversee all project phases and on the availability of NOAA or other technical expertise to guide the project to a successful completion.

Proposals also will be evaluated on their ability to deliver the restoration objective stated in the proposal; demonstrate that the restoration activity will result in tangible benefits and will be sustainable and long-lasting; provide for long-term management of the restored resource, including adequate monitoring and a method for evaluating project success; and provide assurance that implementation of the project will meet all Federal and state environmental laws by obtaining or proceeding to obtain applicable permits and consultations. Projects on permanently protected lands may be given priority consideration.

(3) Community Commitment and Partnership Development (15 points)

Proposals will be evaluated on activities proposed to involve citizens and broaden their participation in habitat restoration or science-based monitoring; the potential for, or demonstrated NOAA involvement in, the project; and the depth and breadth of community support, as reflected by the diversity and strength of project partners. Community participation may include: (a) hands-on training, restoration and monitoring activities undertaken by volunteers; (b) sponsorship by local entities, either through in-kind goods and services (earth-moving services, technical expertise, conservation easements) or cash contributions; (c) public education and outreach; (d) support from state and local governments; and (e) ability to achieve long-term stewardship for restored resources and to generate a community conservation ethic.

(4) Cost-effectiveness and Budget Justification (15 points)

Proposals will be evaluated on the percentage of funds that will be dedicated to all phases of project implementation including physical, on-the-ground restoration and/or science-based monitoring, compared to the percentage that is for administration, salaries, overhead and travel; applications proposing to use restoration funds to expand an organization’s day-to-day activities are unlikely to obtain a high score under this criterion. Proposals also will be evaluated on the need for funding and the overall leverage of NOAA funds anticipated, including the amount of cash match; the ability to which the proposed project is likely to catalyze future restoration and protection of living marine resources; and the ability of the applicant to demonstrate that a significant benefit will be generated for a reasonable cost. NOAA will expect cost-sharing to leverage funding and to further encourage partnerships among government, industry, and academia.

XIV. Allowable Costs

Funds awarded cannot necessarily pay for all the costs that the recipient might incur in the course of carrying out the project. Allowable costs are determined by reference to the OMB Circulars A-122, “Cost Principles for Non-profit Organizations”; A-21, “Cost Principles for Education Institutions”; and A-87, “Cost Principles for State, Local and Indian Tribal Governments.” Generally, costs that are allowable include salaries, equipment, supplies, and training, as long as these are “necessary and reasonable.” To encourage on-the-ground restoration, funding for salaries must be used to support staff directly involved in accomplishing the restoration work.

XV. Other Requirements

Federal Policies and Procedures

Recipients and subrecipients are subject to all Federal laws and Federal and DOC policies, regulations, and procedures applicable to Federal financial assistance awards.

Past Performance

Any first-time applicant for Federal grant funds under this announcement is subject to a pre-award accounting survey prior to execution of the award. Unsatisfactory performance under prior Federal awards may result in an application not being considered for funding.

Pre-award Activities

If applicants incur any costs prior to an award being made, they do so solely at their own risk of not being reimbursed by the Government. Notwithstanding any verbal or written assurance that they may have received, there is no obligation on the part of NOAA to cover pre-award costs.

No Obligation of Future Funding

If an application is selected for funding, NOAA has no obligation to provide additional future funding in connection with the award. Renewal of an award to increase funding or extend the period of performance is at the total discretion of the Restoration Center Director.

Delinquent Federal Debts

No award of Federal funds will be made to an applicant or to its subrecipients who have any outstanding delinquent Federal debt or fine until:

1. The delinquent account is paid in full;

2. A negotiated repayment schedule is established, and at least one payment is received; or

3. Other arrangements are made that are satisfactory to the Department of Commerce.

Name Check Review

All non-profit and for-profit applicants are subject to a name check review process. Name checks are intended to reveal whether key individuals associated with the applying organization have been convicted of, or are presently facing, criminal charges such as fraud, theft, perjury, or other matters that significantly reflect on the applicant’s management, honesty, or financial integrity. Potential non-profit and for-profit recipients also may be subject to reviews of Dun and Bradstreet data or other similar credit checks.

Primary Applicant Certifications

All primary applicants must submit a completed Form CD 511, “Certifications Regarding Debarment, Suspension and Other Responsibility Matters; Drug-Free Workplace Requirements and Lobbying.” The following explanations are hereby provided:

1. Nonprocurement debarment and suspension. Prospective participants (as defined at 15 CFR 26.105) are subject to 15 CFR part 26, “Nonprocurement Debarment and Suspension,” and the related section of the certification form prescribed earlier applies.

2. Drug-free workplace. Grantees (as defined at 15 CFR 26.605) are subject to 15 CFR 26, subpart F, “Government-wide Requirements for Drug-Free Workplace (Grants),” and the related section of the certification form prescribed earlier applies; also please enter the Principal Place of Performance, that is, where the work will be done.

3. Anti-Lobbying. Persons (as defined at 15 CFR 28.105) are subject to the lobbying provision of 31 U.S.C. 1352, “Limitation on use of appropriated funds to influence certain Federal contracting and financial transactions,” and the lobbying section of the certification form prescribed above applies to applications/bids for grants, cooperative agreements, contracts for more than $100,000, and loans and loan guarantees for more than $150,000.

4. Anti-Lobbying Disclosures. Any applicant who has paid or will pay for lobbying using any funds must submit a Form SF-LLL, “Disclosure Form to Report Lobbying,” as required under 15 CFR part 28, appendix B.

Lower Tier Certifications

Recipients shall require applicants/bidders for subgrants, contracts, subcontracts, or other lower tier covered transactions at any tier under the award to submit, if applicable, a completed Form CD 512, “Certifications Regarding Debarment, Suspension, Ineligibility and Voluntary Exclusion-Lower Tier Covered Transactions and Lobbying” and disclosure Form SF-LLL “Disclosure of Lobbying Activities.” Form CD-512 is intended for the use of recipients and should not be transmitted to DOC. An SF-LLL submitted by any tier recipient or subrecipient should be submitted to DOC in accordance with the instructions contained in the award document.

False Statements

A false statement on the application is grounds for denial or termination of funds and grounds for possible punishment by a fine or imprisonment as provided in 18 U.S.C. 1001.

Intergovernmental Review

Applications under this program are subject to the provisions of Executive Order 12372, “Intergovernmental Review of Federal Programs.”

American-made Equipment and Products

Applicants are encouraged, to the extent feasible, to purchase American-made equipment and products with funding provided under this program.

Classification

Prior notice and an opportunity for public comment are not required by the Administrative Procedure Act or by any other law for this document concerning grants, benefits, and contracts. Accordingly, a regulatory flexibility analysis is not required by the Regulatory Flexibility Act.

This action has been determined to be “not significant” for purposes of Executive Order 12866.

Notwithstanding any other provision of the law, no person is required to respond to, nor shall any person be subject to a penalty for failure to comply with a collection of information subject to the requirements of the Paperwork Reduction Act unless that collection displays a currently valid OMB control number.

This notice contains collection-of-information requirements subject to the Paperwork Reduction Act. The use of Standard Forms 424, 424A, 424B and SF-LLL have been approved by OMB under the respective control numbers 0348-0043, 0348-0044, 0348-0040, and 0348-0046.

Dated: February 27, 2001.
William T. Hogarth,
Acting Assistant Administrator for Fisheries, National Marine Fisheries Service.

[FR Doc. 01-5131 Filed 3-1-01; 8:45 am]

BILLING CODE 3510-22-S